COMMITTEE FOR PURCHASE FROM PEOPLE WHO ARE BLIND OR SEVERELY DISABLED

Procurement List Addition and Deletions

AGENCY: Committee for Purchase From People Who Are Blind or Severely Disabled.

ACTION: Addition to and Deletions from Procurement List.

SUMMARY: This action adds to the Procurement List a service to be furnished by nonprofit agencies employing persons who are blind or have other severe disabilities, and deletes from the Procurement List products and service previously furnished by such agencies.

DATES: Effective Date: June 29, 2008.

ADDRESSES: Committee for Purchase From People Who Are Blind or Severely Disabled, Jefferson Plaza 2, Suite 10800, 1421 Jefferson Davis Highway, Arlington, Virginia, 22202-3259.

FOR FURTHER INFORMATION CONTACT: Kimberly M. Zeich, Telephone: (703) 603-7740, Fax: (703) 603-0655, or e-mail CMTEFedReg@jwod.gov.

SUPPLEMENTARY INFORMATION:

Addition

On April 4, 2008, the Committee for Purchase From People Who Are Blind or Severely Disabled published notices (73 FR 18495) of proposed additions to the Procurement List.

After consideration of the material presented to it concerning capability of qualified nonprofit agencies to provide the service and impact of the additions on the current or most recent contractors, the Committee has determined that the service listed below is suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the service to the Government.

2. The action will result in authorizing small entities to furnish the service to the Government.

3. There are no known regulatory alternatives which would accomplish the objectives of the Javits-Wagner-O'Day Act (41 U.S.C. 46-48c) in connection with the service proposed for addition to the Procurement List.

End of Certification

Accordingly, the following service is added to the Procurement List:

Service

Service Type: TSCA Assistance Information Service.

Location: Assoc f/t Blind & Visually Impaired & Goodwill Ind. of Greater Rochester, 422 South Clinton Avenue, Rochester, NY.

NPA: Assoc f/t Blind & Visually Impaired & Goodwill Ind. of Greater Rochester, Rochester, NY.

Contracting Activity: Environmental Protection Agency, Washington, DC.

Deletions

On January 18, 2008 and April 4, 2008, the Committee for Purchase From People Who Are Blind or Severely Disabled published notice (73 FR 3451, 18496) of proposed deletions to the Procurement List.

After consideration of the relevant matter presented, the Committee has determined that the products and service listed below are no longer suitable for procurement by the Federal Government under 41 U.S.C. 46-48c and 41 CFR 51-2.4.

Regulatory Flexibility Act Certification

I certify that the following action will not have a significant impact on a substantial number of small entities. The major factors considered for this certification were:

1. The action should not result in additional reporting, recordkeeping or other compliance requirements for small entities.

2. The action may result in authorizing small entities to furnish the products and service to the Government.

3. There are no known regulatory alternatives which would accomplish the objectives of the Javits-Wagner-O'Day Act (41 U.S.C. 46-48c) in connection with the products and service deleted from the Procurement List.

End of Certification

Accordingly, the following products and service are deleted from the Procurement List:

Products

Pad, Fax Transmittal (OF 99)

NSN: 7540-01-317-7368—Pad, Fax Transmittal (OF 99).

NPA: Assoc f/t Blind & Visually Impaired & Goodwill Ind. of Greater Rochester, Rochester, NY.

Contracting Activity: Government Printing Office, Washington, DC.

Rochester Midland Envirocare Products

NSN: 7930-01-512-7170—LiquiBac.

NPA: Lighthouse for the Blind, St. Louis, MO.

Contracting Activity: Office Supplies & Paper Products Acquisition Ctr, New York, NY.

Service

Service Type: Food Service.

Location: Stewart Air National Guard Base (105th Airlift Wing/LGC).

NPA: New Dynamics Corporation, Middletown, NY.

Contracting Activity: 105th Airlift Wing/LGC, Newburgh, NY.

Kimberly M. Zeich,
Director, Program Operations.

[FR Doc. E8-12102 Filed 5-29-08; 8:45 am]

BILLING CODE 6353-01-P